DEPARTMENT OF COMMERCE

National Oceanic and Atmospheric Administration

National Estuarine Research Reserve System

AGENCY: Stewardship Division, Office for Coastal Management, National Ocean Service, National Oceanic and Atmospheric Administration, U.S. Department of Commerce.

ACTION: Notice of Approval for the Padilla Bay, Washington National Estuarine Research Reserve Management Plan revision.

SUMMARY: Under 15 CFR 921.33(d), notice is hereby given that the Stewardship Division, Office for Coastal Management, National Ocean Service, National Oceanic and Atmospheric Administration, U.S. Department of Commerce approves the revised Management Plan for Padilla Bay, Washington National Estuarine Research Reserve Management Plan. In accordance with 15 CFR 921.33(c), the Padilla Bay Reserve revised its Management Plan, which will replace the plan previously approved in 2008.

The revised Management Plan outlines the administrative structure; the research/monitoring, stewardship, education, and training programs of the Reserve; and the plans for future land acquisition and facility development to support Reserve operations.

The Padilla Bay Reserve takes an integrated approach to management, linking research, education, coastal training, and stewardship functions. The Reserve has outlined how it will manage administration and its core program providing detailed actions that will enable it to accomplish specific goals and objectives. Since the last Management Plan, the Reserve has built out its core programs and monitoring infrastructure; conducted an educational market analysis and needs assessment to better meet teacher needs and underserved audiences; developed a Reserve Disaster Response Plan; and improved public access to the Reserve through construction of a new boat launch ramp and enhanced trails.

On March 10, 2016, NOAA issued a notice of a thirty day public comment period for the Padilla Bay Reserve revised plan (81 FR 12716). Responses to the written and oral comments received, and an explanation of how comments were incorporated into the final revised plan, are available in Appendix G of the revised plan.

Since the last management plan was approved in 2008, the Padilla Bay Reserve has acquired an additional 110 acres of tidelands inside the Reserve boundary. With the approval of this management plan, the Padilla Bay Reserve will increase their total acreage to 11,966. The change is attributable to the recent acquisitions of several parcels by the Reserve state agency, totaling 110 acres. All of the proposed additions are owned by the Washington Department of Ecology and will be managed for long-term protection and conservation value. These parcels have high ecological value and will enhance the Reserve's ability to provide increased opportunities for research, education, and stewardship. The revised Management Plan will serve as the guiding document for the expanded 11,966 acre Padilla Bay Reserve. View the Padilla Bay, Washington Reserve Management Plan at http://www.padillabay.gov/pdfs/ManagementPlan_2016-2020.pdf.

The impacts of the revised management plan have not changed and the initial Environmental Impact Statement (EIS) prepared at the time of designation is still valid. NOAA determined that the revision of the management plan will not have a significant effect on the human environment and therefore qualifies for a categorical exclusion under NOAA Administrative Order 216-6. An environmental assessment will not be prepared.

FOR FURTHER INFORMATION CONTACT: Bree Turner at (206) 526-4641 or Erica Seiden at (301) 563-1172 of NOAA's National Ocean Service, Office for Coastal Management, Stewardship Division, 1305 East-West Highway, N/ORM5, 10th Floor, Silver Spring, MD 20910.

Dated: July 14, 2016.
John King,
Deputy Director, Office for Coastal Management, National Ocean Service, National Oceanic and Atmospheric Administration.

[FR Doc. 2016-17216 Filed 7-20-16; 8:45 am]

BILLING CODE 3510-08-P